DEPARTMENT OF DEFENSE

Office of the Secretary

Meeting of the Independent Review Panel to Study the Relationships between Military Department General Counsels and Judge Advocates General—Open Meeting

AGENCY: Department of Defense.

ACTION: Notice.

SUMMARY: Pursuant to the Federal Advisory Committee Act (FACA), Public Law 96-463, notice is hereby given that the Independent Review Panel to Study the Relationships between Military Department General Counsels and Judge Advocates General will hold an open meeting at the Hilton Crystal City, 2399 Jefferson Davis Highway, Arlington, Virginia 22202, on August 12, 2005, from 8:30 a.m. to 11:30 a.m. and 1 p.m. to 4 p.m.

Purpose: The Panel will meet on August 12, 2005, from 8:30 a.m. to 11:30 a.m. and 1 p.m. to 4 p.m., to conduct deliberations concerning the relationships between the legal elements of their respective Military Departments. These sessions will be open to the public, subject to the availability of space. The Panel has held seven public hearings and has provided the public oppportunities to address the Panel both person and in writing. The Panel has also deliberated in several sessions open to the public, including deliberations on an initial draft of a final report prepared by the Panel's staff. The Panel must complete its report during August so that Congress may consider it during this legislative session as envisioned in section 574 of the Ronald W. Reagan National Defense Authorization Act for Fiscal Year 2005. Due to this exceptional circumstance, the Panel decided to hold its final deliberation session, open to the public, on August 12. This decision, based on that exceptional circumstance, was made on July 28, thus making it impossible for the Department to provide the 15 calendar days notice normally required for Panel meetings.

DATES: August 12, 2005: 8:30 a.m.-11:30 a.m., and 1 p.m.-4 p.m.

Location: Hilton Crystal City, 2399 Jefferson Davis Highway, Arlington, Virginia 22202.

FOR FURTHER INFORMATION CONTACT: Any member of the public wishing further information concerning this meeting may contact:

Mr. James R. Schwenk, Designated Federal Official, Department of Defense Office of the General Counsel, 1600 Defense Pentagon, Arlington, Virginia 20301-1600. Telephone: (703) 697-9343. Fax: (703) 693-7616. schwenkj@dodge.osd.mil.

Dated: August 1, 2005.
L. M. Bynum,
Alternate OSD Federal Register Liaison Officer, Department of Defense.

[FR Doc. 05-15469 Filed 8-3-05; 8:45 am]

BILLING CODE 5001-06-M